DEPARTMENT OF HOUSING AND URBAN DEVELOPMENT

[Docket No. FR-5186-N-22]

Federal Property Suitable as Facilities To Assist the Homeless

AGENCY: Office of the Assistant Secretary for Community Planning and Development, HUD.

ACTION: Notice.

SUMMARY: This Notice identifies unutilized, underutilized, excess, and surplus Federal property reviewed by HUD for suitability for possible use to assist the homeless.

FOR FURTHER INFORMATION CONTACT: Kathy Ezzell, Department of Housing and Urban Development, 451 Seventh Street, SW., Room 7266, Washington, DC 20410; telephone (202) 708-1234; TTY number for the hearing- and speech-impaired (202) 708-2565 (these telephone numbers are not toll-free), or call the toll-free Title V information line at 800-927-7588.

SUPPLEMENTARY INFORMATION: In accordance with 24 CFR part 581 and section 501 of the Stewart B. McKinney Homeless Assistance Act (42 U.S.C. 11411), as amended, HUD is publishing this Notice to identify Federal buildings and other real property that HUD has reviewed for suitability for use to assist the homeless. The properties were reviewed using information provided to HUD by Federal landholding agencies regarding unutilized and underutilized buildings and real property controlled by such agencies or by GSA regarding its inventory of excess or surplus Federal property. This Notice is also published in order to comply with the December 12, 1988 Court Order in National Coalition for the Homeless v. Veterans Administration, No. 88-2503-OG (D.D.C.).

Properties reviewed are listed in this Notice according to the following categories: Suitable/available, suitable/unavailable, suitable/to be excess, and unsuitable. The properties listed in the three suitable categories have been reviewed by the landholding agencies, and each agency has transmitted to HUD: (1) Its intention to make the property available for use to assist the homeless, (2) its intention to declare the property excess to the agency's needs, or (3) a statement of the reasons that the property cannot be declared excess or made available for use as facilities to assist the homeless.

Properties listed as suitable/available will be available exclusively for homeless use for a period of 60 days from the date of this Notice. Where property is described as for “off-site use only” recipients of the property will be required to relocate the building to their own site at their own expense. Homeless assistance providers interested in any such property should send a written expression of interest to HHS, addressed to John Hicks, Division of Property Management, Program Support Center, HHS, room 5B-17, 5600 Fishers Lane, Rockville, MD 20857; (301) 443-2265. (This is not a toll-free number.) HHS will mail to the interested provider an application packet, which will include instructions for completing the application. In order to maximize the opportunity to utilize a suitable property, providers should submit their written expressions of interest as soon as possible. For complete details concerning the processing of applications, the reader is encouraged to refer to the interim rule governing this program, 24 CFR part 581.

For properties listed as suitable/to be excess, that property may, if subsequently accepted as excess by GSA, be made available for use by the homeless in accordance with applicable law, subject to screening for other Federal use. At the appropriate time, HUD will publish the property in a Notice showing it as either suitable/available or suitable/unavailable.

For properties listed as suitable/unavailable, the landholding agency has decided that the property cannot be declared excess or made available for use to assist the homeless, and the property will not be available.

Properties listed as unsuitable will not be made available for any other purpose for 20 days from the date of this Notice. Homeless assistance providers interested in a review by HUD of the determination of unsuitability should call the toll free information line at 1-800-927-7588 for detailed instructions or write a letter to Mark Johnston at the address listed at the beginning of this Notice. Included in the request for review should be the property address (including zip code), the date of publication in the Federal Register, the landholding agency, and the property number.

For more information regarding particular properties identified in this Notice (i.e., acreage, floor plan, existing sanitary facilities, exact street address), providers should contact the appropriate landholding agencies at the following addresses: Air Force: Ms. Kathryn Halvorson, Air Force Real Property Agency, 1700 North Moore St., Suite 2300, Arlington, VA 22209; (703) 696-5502; COE: Mr. Walter Hylton, Army Corps of Engineers, Office of Counsel, CECC-R, 441 G Street, NW., Washington, DC 20314-1000; (202) 761-7701; Coast Guard: Commandant, United States Coast Guard, Attn: Teresa Sheinberg, 2100 Second St., SW., Rm 6109, Washington, DC 20593-0001; (202) 267-6142; Energy: Mr. Mark Price, Department of Energy, Office of Engineering & Construction Management, MA-50, 1000 Independence Ave., SW., Washington, DC 20585: (202) 586-5422; GSA: Mr. John Smith, Deputy Assistant Commissioner, General Services Administration, Office of Property Disposal, 18th & F Streets, NW., Washington, DC 20405; (202) 501-0084; Interior: Mr. Michael Wright, Acquisition & Property Management, Department of the Interior, 1849 C Street, NW., MS2603, Washington, DC 20240; (202) 208-5399; Navy: Mrs. Mary Arndt, Acting Director, Department of the Navy, Real Estate Services, Naval Facilities Engineering Command, Washington Navy Yard, 1322 Patterson Ave., SE., Suite 1000, Washington, DC 20374-5065; (202) 685-9305; (These are not toll-free numbers).

Dated: May 22, 2008.
Mark R. Johnston,
Deputy Assistant Secretary for Special Needs.

Title V, Federal Surplus Property Program Federal Register Report for 05/30/2008

Suitable/Available Properties

Building

West Virginia

SSA District Office

214 North Kanawha St.

Beckley WV 25801

Landholding Agency: GSA

Property Number: 54200820009

Status: Surplus

GSA Number: 4-G-WV-0552

Comments: 4473 sq. ft., presence of asbestos/lead paint, most recent use—offices

Land

California

Parcels L1 & L2

George AFB

Victorville CA 92394

Landholding Agency: Air Force

Property Number: 18200820034

Status: Excess

Comments: 157 acres/desert, pump-and-treat system, groundwater restrictions, AF access rights, access restrictions, environmental concerns

Suitable/Available Properties

Land

New Mexico

Portion

Griegos Drain

Albuquerque NM 87104

Landholding Agency: Interior

Property Number: 61200820002

Status: Unutilized

Comments: 0.0656 acres, encroachment, limited access

Pennsylvania

approx. 16.88

271 Sterrettania Rd.

Erie PA 16506

Landholding Agency: GSA

Property Number: 54200820011

Status: Surplus

GSA Number: 4-D-PA-0810

Comments: vacant land

Unsuitable Properties

Building

Alaska

Bldg. 70500

Seward AFB

Seward AK 99664

Landholding Agency: Air Force

Property Number: 18200820001

Status: Unutilized

Reasons: Secured Area

Bldg. 3224

Eielson AFB

Eielson AK 99702

Landholding Agency: Air Force

Property Number: 18200820002

Status: Unutilized

Reasons: Secured Area, Extensive deterioration

5 Bldgs.

Elmendorf AFB

Anchorage AK 99506

Landholding Agency: Air Force

Property Number: 18200820003

Status: Unutilized

Directions: 5188, 7152, 10492, 12095, 15358

Reasons: Secured Area

Unsuitable Properties

Building

Arkansas

Well House

Mountain Home Project

Mountain Home AR 72653

Landholding Agency: COE

Property Number: 31200820001

Status: Unutilized

Reasons: Secured Area

California

Bldgs. 1185, 1186, 1187

Vandenberg AFB

Vandenberg CA 93437

Landholding Agency: Air Force

Property Number: 18200820005

Status: Unutilized

Reasons: Secured Area

5 Bldgs.

Vandenberg AFB

1521, 1522, 1523, 1753, 1826

Vandenberg CA 93437

Landholding Agency: Air Force

Property Number: 18200820006

Status: Unutilized

Reasons: Secured Area

Unsuitable Properties

Building

California

Bldgs. 1952, 1953, 1957, 1958

Vandenberg AFB

Vandenberg CA 93437

Landholding Agency: Air Force

Property Number: 18200820007

Status: Unutilized

Reasons: Secured Area

Bldgs. 1992, 1995

Vandenberg AFB

Vandenberg CA 93437

Landholding Agency: Air Force

Property Number: 18200820008

Status: Unutilized

Reasons: Secured Area

Bldgs. 10755, 11008

Vandenberg AFB

Vandenberg CA 93437

Landholding Agency: Air Force

Property Number: 18200820009

Status: Unutilized

Reasons: Secured Area

4 Bldgs.

Vandenberg AFB

13140, 13401, 13402, 13407

Vandenberg CA 93437

Landholding Agency; Air Force

Property Number: 18200820010

Status: Unutilized

Reasons: Secured Area

Unsuitable Properties

Building

California

Bldg. 16133

Vandenberg AFB

Vandenberg CA 93437

Landholding Agency: Air Force

Property Number: 18200820011

Status: Unutilized

Reasons: Secured Area

5 Bldgs.

Pt. Arena AF Station

101, 102, 104, 105, 108

Mendocino CA 95468

Landholding Agency: Air Force

Property Number: 18200820019

Status: Excess

Reasons: Secured Area, Extensive deterioration

Bldgs. 160, 161, 166

Pt. Arena AF Station

Mendocino CA 95468

Landholding Agency: Air Force

Property Number: 18200820020

Status: Excess

Reasons: Extensive deterioration, Secured Area

Unsuitable Properties

Building

California

8 Bldgs.

Pt. Arena AF Station

Mendocino CA 95468

Landholding Agency: Air Force

Property Number: 18200820021

Status: Excess

Directions: 201, 202, 203, 206, 215, 216, 217, 218

Reasons: Extensive deterioration, Secured Area

7 Bldgs.

Pt. Arena AF Station

Mendocino CA 95468

Landholding Agency: Air Force

Property Number: 18200820022

Status: Excess

Directions: 220, 221, 222, 223, 225, 226, 228

Reasons: Secured Area, Extensive deterioration

Bldg. 408

Pt. Arena AF Station

Mendocino CA 95468

Landholding Agency: Air Force

Property Number: 18200820023

Status: Excess

Reasons: Extensive deterioration, Secured Area

Unsuitable Properties

Building

California

Bldgs. 601 thru 610

Pt. Arena AF Station

Mendocino CA 95468

Landholding Agency: Air Force

Property Number: 18200820024

Status: Excess

Reasons: Secured Area, Extensive deterioration

Bldgs. 611-619

Pt. Arena AF Station

Mendocino CA 95468

Landholding Agency: Air Force

Property Number: 18200820025

Status: Excess

Reasons: Extensive deterioration, Secured Area

Bldgs. 620 thru 627

Pt. Arena AF Station

Mendocino CA 95468

Landholding Agency: Air Force

Property Number: 18200820026

Status: Excess

Reasons: Secured Area, Extensive deterioration

Unsuitable Properties

Building

California

Bldgs. 654, 655, 690

Pt. Arena AF Station

Mendocino CA 95468

Landholding Agency: Air Force

Property Number: 18200820027

Status: Excess

Reasons: Extensive deterioration, Secured Area

Bldgs. 300, 387

Pt. Arena Comm Annex

Mendocino CA 95468

Landholding Agency: Air Force

Property Number: 18200820029

Status: Excess

Reasons: Extensive deterioration, Secured Area

Bldgs. 700, 707, 796, 797

Pt. Arena Comm Annex

Mendocino CA 95468

Landholding Agency: Air Force

Property Number: 18200820030

Status: Excess

Reasons: Extensive deterioration, Secured Area

Unsuitable Properties

Building

California

Bldgs. 748, 838

Vandenberg AFB

Vandenberg CA 93437

Landholding Agency: Air Force

Property Number: 18200820033

Status: Unutilized

Reasons: Secured Area

Bldg. S 00108

Sharpe

Lathrop CA 95231

Landholding Agency: COE

Property Number: 31200820002

Status: Underutilized

Reasons: Secured Area

Bldgs. 17, 37, 130

Naval Base

San Diego CA 92136

Landholding Agency: Navy

Property Number: 77200820023

Status: Excess

Reasons: Secured Area

Bldgs. 3053, 3328

Naval Base

San Diego CA 92136

Landholding Agency: Navy

Property Number: 77200820025

Status: Excess

Reasons: Secured Area

Unsuitable Properties

Building

California

Bldgs. 3368, 3370

Naval Base

San Diego CA 92136

Landholding Agency: Navy

Property Number: 77200820026

Status: Excess

Reasons: Secured Area

Bldgs. 3591, 3592

Naval Base

San Diego CA 92136

Landholding Agency: Navy

Property Number: 77200820027

Status: Excess

Reasons: Secured Area

Bldg. 3603

Naval Base

San Diego CA 92136

Landholding Agency: Navy

Property Number: 77200820028

Status: Excess

Reasons: Floodway, Secured Area

Unsuitable Properties

Building

California

Bldg. PH1230

Naval Base

Port Hueneme CA 93043

Landholding Agency: Navy

Property Number: 77200820029

Status: Unutilized

Reasons: Extensive deterioration, Secured Area

Bldg. PM28

Naval Base

Point Mugu CA 93042

Landholding Agency: Navy

Property Number: 77200820030

Status: Unutilized

Reasons: Secured Area, Extensive deterioration

Bldgs. PH5295, PH5297

Naval Base

Oxnard CA 93042

Landholding Agency: Navy

Property Number: 77200820031

Status: Unutilized

Reasons: Extensive deterioration, Secured Area

Unsuitable Properties

Building

California

4 Bldgs.

Naval Base

Oxnard CA 93042

Landholding Agency: Navy

Property Number: 77200820032

Status: Unutilized

Directions: PH5303, PH5315, PH5318, PH5319

Reasons: Secured Area, Extensive deterioration

Bldgs. PH5323, PH5329

Naval Base

Oxnard CA 93042

Landholding Agency: Navy

Property Number: 77200820033

Status: Unutilized

Reasons: Secured Area, Extensive deterioration

Colorado

Bldg. 988

Rocky Mtn Natl Park

Estes Park CO 80517

Landholding Agency: Interior

Property Number: 61200820003

Status: Unutilized

Reasons: Extensive deterioration

Unsuitable Properties

Building

District of Columbia

Bldgs. 29, 105, 107

Anacostia Naval Annex

Washington DC

Landholding Agency: Navy

Property Number: 77200820034

Status: Unutilized

Reasons: Floodway, Secured Area

Bldg. W22

Washington Navy Yard

Washington DC 20374

Landholding Agency: Navy

Property Number: 77200820035

Status: Underutilized

Reasons: Secured Area

Florida

Bldg. L-10

Jim Woodruff Reservoir

Chattachoochee FL 32324

Landholding Agency: COE

Property Number: 31200820003

Status: Unutilized

Reasons: Extensive deterioration

Unsuitable Properties

Building

Georgia

Bldgs. 794, 1541

Moody AFB

Lowndes GA

Landholding Agency: Air Force

Property Number: 18200820012

Status: Unutilized

Reasons: Secured Area

4 Bldgs.

West Point Lake

WH16, WH18, WR02, WA03

West Point GA 31833

Landholding Agency: COE

Property Number: 31200820004

Status: Unutilized

Reasons: Extensive deterioration

Pumphouse

Carters Lake

Oakman GA 30732

Landholding Agency: COE

Property Number: 31200820005

Status: Unutilized

Reasons: Extensive deterioration

4 Stables

Di-Lane Plantation

Elberton GA 30635

Landholding Agency: COE

Property Number: 31200820006

Status: Unutilized

Reasons: Extensive deterioration

Unsuitable Properties

Building

Idaho

Bldgs. B23-602, B27-601

Idaho Natl Laboratory

Idaho Falls ID 83415

Landholding Agency: Energy

Property Number: 41200820003

Status: Unutilized

Reasons: Secured Area

Bldgs. CF-635, CF650

Idaho Natl Laboratory

Idaho Falls ID 83415

Landholding Agency: Energy

Property Number: 41200820005

Status: Unutilized

Reasons: Within 2000 ft. of flammable or explosive material Secured Area

Bldgs. CF-662, CF-692

Idaho Natl Laboratory

Idaho Falls ID 83415

Landholding Agency: Energy

Property Number: 41200820006

Status: Unutilized

Reasons: Secured Area, Extensive deterioration

Unsuitable Properties

Building

Idaho

Bldg. 4

Spalding Ave/Watson Store Rd

Spalding ID 83540

Landholding Agency: Interior

Property Number: 61200820001

Status: Excess

Reasons: Extensive deterioration

Kansas

Fee Booth #35006

Minooka Park

Sylvan Grove KS 67481

Landholding Agency: COE

Property Number: 31200820007

Status: Excess

Reasons: Extensive deterioration

Mississippi

Bldg. CB-70

Columbus Lake

Columbus MS 39701

Landholding Agency: COE

Property Number: 31200820009

Status: Unutilized

Reasons: Extensive deterioration

Unsuitable Properties

Building

Missouri

Bldg. 14004

Hawker Point Park

Stockton MO 65785

Landholding Agency: COE

Property Number: 31200820008

Status: Excess

Reasons: Extensive deterioration

Montana

Bldg. 1881

Malmstrom AFB

Cascade MT 59402

Landholding Agency: Air Force

Property Number: 18200820013

Status: Unutilized

Reasons: Secured Area

Nevada

Bldg. 33400

Ely

Ely NV 89301

Landholding Agency: Air Force

Property Number: 18200820014

Status: Unutilized

Reasons: Secured Area, Extensive deterioration

Unsuitable Properties

Building

New Hampshire

Bldgs. 122, 153, 501, 502

New Boston AF Station

Hillsborough NH

Landholding Agency: Air Force

Property Number: 18200820015

Status: Unutilized

Reasons: Secured Area

New Mexico

Bldgs. 40, 841

Holloman AFB

Otero NM 88330

Landholding Agency: Air Force

Property Number: 18200820016

Status: Underutilized

Reasons: Secured Area

Bldgs. 436, 437

Kirtland AFB

Bernalillo NM 87117

Landholding Agency: Air Force

Property Number: 18200820017

Status: Underutilized

Reasons: Within 2000 ft. of flammable or explosive material Secured Area

Unsuitable Properties

Building

Oklahoma

4 Bldgs.

Optima Lake

Texas OK

Landholding Agency: COE

Property Number: 31200820010

Status: Unutilized

Directions: 43119, 43192, 43193, 43262

Reasons: Extensive deterioration

Oregon

Bldg. 1001

ANG Base

Portland OR 97218

Landholding Agency: Air Force

Property Number: 18200820018

Status: Underutilized

Reasons: Secured Area, Within 2000 ft. of flammable or explosive material

Pennsylvania

Bldgs. TIO 12328, 12333

Tionesta PA 16353

Landholding Agency: COE

Property Number: 31200820011

Status: Unutilized

Reasons: Extensive deterioration

Unsuitable Properties

Building

Rhode Island

Bldg. 164

Naval Station

Newport RI 02841

Landholding Agency: Navy

Property Number: 77200820036

Status: Excess

Reasons: Floodway, Secured Area, Within 2000 ft. of flammable or explosive material

Texas

18 Bldgs.

Texoma Lake

Denison TX

Landholding Agency: COE

Property Number: 31200820012

Status: Unutilized

Reasons: Extensive deterioration

Bldg.

Stilling Basin

Pat Mayes Lake

Powderly TX 75473

Landholding Agency: COE

Property Number: 31200820013

Status: Unutilized

Reasons: Extensive deterioration

Unsuitable Properties

Building

Virginia

Martin House

Tract 07-101

Dinwiddie VA 23841

Landholding Agency: Interior

Property Number: 61200820005

Status: Excess

Reasons: Extensive deterioration

Quarters #50

1541 Hickory Hill Road

Petersburg VA 23803

Landholding Agency: Interior

Property Number: 61200820006

Status: Excess

Reasons: Extensive deterioration

Davis House

Tract 01-137

Petersburg VA 23803

Landholding Agency: Interior

Property Number: 61200820007

Status: Excess

Reasons: Extensive deterioration

Bldg. 3306

Marine Corps Base

Quantico VA 22134

Landholding Agency: Navy

Property Number: 77200820037

Status: Excess

Reasons: Extensive deterioration

Unsuitable Properties

Building

Virginia

Navigation Center Trailer

USCG TISCOM

Alexandria VA 22315

Landholding Agency: Coast Guard

Property Number: 88200820003

Status: Excess

Reasons: Secured Area

Washington

Storage Bldg.

Lower Granite Lock & Dam

Pomeroy WA 99374

Landholding Agency: COE

Property Number: 31200820014

Status: Unutilized

Reasons: Extensive deterioration

Residence 0033008500

Kennewick WA 99338

Landholding Agency: Interior

Property Number: 61200820008

Status: Unutilized

Reasons: Extensive deterioration

Unsuitable Properties

Land

California

Facilities 99001 thru 99006

Pt. Arena AF Station

Mendocino CA 95468

Landholding Agency: Air Force

Property Number: 18200820028

Status: Excess

Reasons: Secured Area

7 Facilities

Pt. Arena Comm Annex

Mendocino CA 95468

Landholding Agency: Air Force

Property Number: 18200820031

Status: Excess

Directions: 99001, 99003, 99004, 99005, 99006, 99007, 99008

Reasons: Secured Area

Facilities 99002 thru 99014

Pt. Arena Water Sys Annex

Mendocino CA 95468

Landholding Agency: Air Force

Property Number: 18200820032

Status: Excess

Reasons: Secured Area

Unsuitable Properties

Land

Georgia

Tract J-916

Allatoona Operations Project

Canton GA

Landholding Agency: GSA

Property Number: 54200820010

Status: Excess

GSA Number: 4-D-GA-0424AB

Reasons: Floodway

Utah

0.47 acre

Hyrum Feeder Canal

Hyrum UT 84319

Landholding Agency: Interior

Property Number: 61200820004

Status: Excess

Reasons: Other—landlocked

[FR Doc. E8-11893 Filed 5-29-08; 8:45 am]

BILLING CODE 4210-67-P